DEPARTMENT OF ENERGY

Office of International Regimes and Agreements; Proposed Subsequent Arrangement

AGENCY: Department of Energy.

ACTION: Notice of proposed subsequent arrangement.

SUMMARY: This notice is being issued under the authority of Section 131 of the Atomic Energy Act of 1954, as amended (42 U.S.C. 2160). The Department is providing notice of a proposed “subsequent arrangement” under the Agreement for Cooperation in the Peaceful Uses of Nuclear Energy between the United States and the European Atomic Energy Community (EURATOM) and the Agreement for Cooperation Concerning Civil Uses of Atomic Energy between the United States and Norway.

This subsequent arrangement concerns the retransfer of eight irradiated fuel rod segments containing a total of 124.4 grams of U.S.-origin uranium, 5.74 grams of which is U-235, and 11.48 grams of U.S.-origin plutonium, from the Institutt for Energiteknikk, Kjeller, Norway, to the CEA/CEN Cadarache, LECA/STAR research center, Saint Paul-Les-Durance, France. The segments, irradiated at the Halden Boiling Water Reactor, are being retransferred for the purpose of post irradiation examination. CEA/CEN Cadarache, LECA/STAR research center is authorized to receive nuclear material pursuant to the U.S.-Euratom Agreement for Cooperation.

In accordance with Section 131 of the Atomic Energy Act of 1954, as amended, we have determined that this subsequent arrangement will not be inimical to the common defense and security.

This subsequent arrangement will take effect no sooner than fifteen days after the date of publication of this notice.

Dated: September 21, 2006.
For the Department of Energy.
Anatoli Welihozkiy,
Acting Director, Office of International Regimes and Agreements.

[FR Doc. E6-15804 Filed 9-26-06; 8:45 am]

BILLING CODE 6450-01-P